OFFICE OF PERSONNEL MANAGEMENT

5 CFR Part 532

RIN 3206-AO10

Prevailing Rate Systems; Abolishment of the Special Wage Schedules for Ship Surveyors in Puerto Rico

AGENCY: Office of Personnel Management.

ACTION: Final rule.

SUMMARY: The Office of Personnel Management (OPM) is issuing a final rule to abolish the special wage schedule pay plan practice previously established for nonsupervisory and supervisory ship surveyor positions in Puerto Rico. The Department of the Navy no longer has such positions in Puerto Rico. This change is based on a consensus recommendation of the Federal Prevailing Rate Advisory Committee (FPRAC).

DATES:

Effective date: This regulation is effective on March 5, 2021.

Applicability date: This change applies on the first day of the first applicable pay period beginning on or after April 5, 2021.

FOR FURTHER INFORMATION CONTACT: Mark Allen, by telephone at (202) 606-2838 or by email at pay-leave-policy@opm.gov.

SUPPLEMENTARY INFORMATION: On October 19, 2020, OPM issued a proposed rule (85 FR 66282) to abolish the special wage schedule pay plan practice previously used for nonsupervisory and supervisory ship surveyor positions in Puerto Rico because the schedule is no longer being used by the Department of the Navy. FPRAC, the national labor-management committee that advises OPM on Federal Wage System pay matters, reviewed and concurred by consensus with this change.

The 30-day comment period ended on November 18, 2020. OPM received one comment in support of the abolishment of the special wage schedule for ship surveyor positions and one comment that is beyond the scope of this rule.

Since there are no FWS employees remaining in the special wage schedule for ship surveyor positions, this final rule removes § 532.275 from title 5, Code of Federal Regulations.

Regulatory Impact Analysis

OPM has examined the impact of this rule as required by Executive Order 12866 and Executive Order 13563, which direct agencies to assess all costs and benefits of available regulatory alternatives and, if regulation is necessary, to select regulatory approaches that maximize net benefits (including potential economic, environmental, public, health, and safety effects, distributive impacts, and equity). This rule has not been designated as a “significant regulatory action,” under Executive Order 12866.

Regulatory Flexibility Act

OPM certifies that this rule will not have a significant economic impact on a substantial number of small entities.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business “Regulatory Enforcement Fairness Act of 1996” (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Alexys Stanley,
Regulatory Affairs Analyst.

Accordingly, OPM is amending 5 CFR part 532 as follows:

PART 532—PREVAILING RATE SYSTEMS

1. The authority citation for part 532 continues to read as follows:

Authority: 5 U.S.C. 5343, 5346; § 532.707 also issued under 5 U.S.C. 552.

§ 532.275 [Removed]

2. Remove § 532.275.

[FR Doc. 2021-04627 Filed 3-4-21; 8:45 am]

BILLING CODE 6325-39-P